DEPARTMENT OF HEALTH AND HUMAN SERVICES

[Document Identifier: OS-0990-New; 30-Day Notice]

Agency Information Collection Request; 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: Evaluation of Pregnancy Prevention Approaches: Implementation Study Data Collection—OMB No. 0990-New—Office of Adolescent Health (OAH).

Abstract: The Office of Adolescent Health (OAH), Office of Public Health and Science (OPHS), U.S. Department of Health and Human Services (HHS), is requesting OMB approval of a new collection. OAH is overseeing and coordinating adolescent pregnancy prevention evaluation efforts as part of the Teen Pregnancy Prevention Initiative. OAH is working collaboratively with the Office of the Assistant Secretary for Planning and Evaluation (ASPE), the Centers for Disease Control and Prevention (CDC), and the Administration for Children and Families (ACF) on adolescent pregnancy prevention evaluation activities.

OAH has provided funding to ACF to oversee the implementation of the Evaluation of Adolescent Pregnancy Prevention Approaches (PPA). PPA is a random assignment evaluation which will expand available evidence on effective ways to reduce teen pregnancy. The evaluation will document and test a range of pregnancy prevention approaches in up to eight program sites. The findings of the evaluation will be of interest to the general public, to policy-makers, and to organizations interested in teen pregnancy prevention.

OAH and ACF are proposing implementation data collection activity as part of the PPA evaluation. The proposed activity involves the collection of information from program records and site visits at two to three points in the program implementation period. Understanding the programs, documenting their implementation and context, and assessing fidelity of implementation will allow for description of each implemented program and the treatment-control contrast evaluated in each site. It will also help in interpreting impact findings, differences in impacts across programs, and differences in impacts across locations or population subgroups.

Respondents: Semi-structured individual and group interviews will be held with program developers, program leaders and staff, participating youths, school representatives, program partners, and other community members knowledgeable about related services for adolescents. All information will be collected by trained professional staff.

Estimated Annualized Burden Table
Forms | Type of respondent | Annual number of respondents | Number of responses per respondent | Average burden hours per response | Total annual burden hours
Staff and community member interviews (Master Topic Guide) | Program staff and community members | 48 | 1 | 1.5 | 72
Guide for Discussion with Control Group Schools about Counterfactual | Control group school staff | 48 | 1 | 1 | 48
Guide for Group Discussion with Frontline Staff | Frontline Program Staff | 48 | 1 | 1.5 | 72
Guide for Group Discussion with Participating Youths | Participating Youth | 216 | 1 | 1.5 | 324
Total |  |  |  |  | 516

Seleda Perryman,
Office of the Secretary, Paperwork Reduction Act Clearance Officer.

[FR Doc. 2010-28149 Filed 11-5-10; 8:45 am]

BILLING CODE 4150-30-P